GENERAL SERVICES ADMINISTRATION

41 CFR Part 102-118

[FMR Case 2023-02; Docket No. GSA-FMR-2023-0014; Sequence No. 1]

RIN 3090-AK73

Federal Management Regulation; Transportation Payment and Audit Regulations

AGENCY: Office of Government-wide Policy (OGP), General Services Administration (GSA).

ACTION: Proposed rule.

SUMMARY: The United States General Services Administration (GSA) proposes to amend the Federal Management Regulation (FMR) to effectuate fundamental changes including removing, adding, and modifying definitions, eliminating gender pronouns, streamlining requirements, and revising statutory references. These changes are needed to provide accurate information for agencies to properly manage and comply with transportation invoice payment and audit requirements.

DATES: Interested parties should submit written comments to the Regulatory Secretariat Division at the address shown below on or before April 16, 2024 to be considered in the formation of the proposed rule.

ADDRESSES: Submit comments in response to FMR Case 2023-02 to Regulations.gov at https://www.regulations.gov via the Federal eRulemaking portal by searching for “FMR Case 2023-02”. Select the link “Comment Now” that corresponds with FMR Case 2023-02. Follow the instructions provided at the “Comment Now” screen. Please include your name, company name (if any), and “FMR Case 2023-02” on your attached document. If your comment cannot be submitted using https://www.regulations.gov, call or email the points of contact in the FOR FURTHER INFORMATION CONTACT section of this document for alternate instructions.

Instructions: Please submit comments only and cite FMR Case 2023-02, in all correspondence related to this case. Comments received generally will be posted without change to https://www.regulations.gov, including any personal and/or business confidential information provided. To confirm receipt of your comment(s), please check https://www.regulations.gov, approximately two to three days after submission to verify posting.

FOR FURTHER INFORMATION CONTACT: Mr. Ron Siegel, Policy Analyst, at 202-702-0840 for clarification of content. For information pertaining to status or publication schedules, contact the Regulatory Secretariat Division at 202-501-4755 or GSARegSec@gsa.gov. Please cite FMR Case 2023-02.

SUPPLEMENTARY INFORMATION:

I. Background

The Travel and Transportation Reform Act of 1998 (Pub. L. 105-264) established the statutory requirement for agencies to perform an audit of transportation expenses prior to payment, granted the Administrator of GSA the authority to prescribe regulations for the audit of transportation invoices prior to payment, and the statutory authority for audit oversight to protect the financial interests of the Government (31 U.S.C. 3726). GSA has codified these requirements in 41 CFR 102-118, Transportation Payment and Audit (Federal Management Regulation (FMR) part 102-118).

GSA last amended FMR part 102-118 on May 31, 2022 (87 FR 32320), to perform editorial and technical changes. That direct final rule introduced the GSA Transportation Audit Management System (TAMS), corrected inaccurate and outdated information, and removed obsolete references to programs, legal citations, and forms. It revised general contact information, corrected hyperlinks, clarified conditions for using certain forms and revised outdated and inaccurate administrative procedures.

GSA is proposing amendments to FMR part 102-118. These amendments include modifying definitions that apply to this part, which include the incorporation of previously undefined terms such as Civilian Board of Contract Appeals (CBCA), refund, and Transportation Audits Management System (TAMS). Furthermore, definitions of forms used exclusively by the GSA Transportation Audits Division will be removed from individual sections and added to the definitions, while terms such as EDI signature, reparation, statement of difference rebuttal, and virtual Government Bill of Lading (GBL), which are defined but not referenced in this part, will be removed. Additionally, certain definitions will be modified to enhance clarity, including for the terms cash, Government contractor issued charge card, and offset. This proposed rule will standardize the terminology used to reference Government contractor issued charge cards and will include definitions for the two types of charge cards that the Government may use to procure transportation: individually billed travel cards and agency purchase cards.

This proposed rule provides further clarification on the role of TAMS and its benefit to transportation service providers (TSPs), specifically when filing certain claims. It also outlines the circumstances under which Federal agencies use TAMS. Additionally, when agencies submit their paid transportation invoices and other documentation through TAMS, it allows the GSA Transportation Audits Division to maintain and store these transportation records in accordance with the General Records Schedule.

Thanks to the convenience of email and the efficiency of TAMS, GSA no longer requires physical documents to be sent via the United States Postal Service mail monthly. Consequently, physical mailing addresses are being removed from this FMR part. This change is expected to reduce costs for agencies, streamline the reporting process, and eliminate the need for mailing documents to the GSA Transportation Audits Division. It will also simplify the claims filing process for TSPs that want to file a claim with the GSA Transportation Audits Division.

GSA is proposing to grant agencies some discretion in the use of a GBL for domestic shipping. Currently, the regulation restricts GBL usage to international or domestic overseas shipments. The changes outlined in this rulemaking would permit agencies to execute a GBL when the agency considers it necessary. Furthermore, this rulemaking clarifies that a bill of lading can be utilized to procure both transportation and transportation services.

This proposed rule builds upon the changes introduced in the direct final rule that was published on May 31, 2022 at 87 FR 32320. That rule eliminated unnecessary procedures for agencies to request Government Bill of Lading (GBL) and Government Transportation Request (GTR) forms, along with their corresponding control numbers. GSA is proposing amendments to this FMR part that will provide agencies with additional information regarding the requirement to assign numbers to these forms and to manage and track each issued GBL and GTR transportation document.

This proposed rule updates the requirement for agencies to provide a copy of each quotation, tender, or contract of special rates, fares, charges, or concessions with TSPs to the GSA Transportation Audits Division. The proposed revision adds the requirement for agencies to send copies of rates provided by pipeline carriers as well. Furthermore, this rulemaking clarifies that the Director of the GSA Transportation Audits Division has the authority to conduct postpayment audits on any agency paid transportation invoice, oversee agency prepayment audit programs, settle accounts, and initiate collection activities.

Finally, GSA is also updating information, including correcting legal references related to actions by and against the Government. The revised information corrects authorities that apply to time limits for filing freight charges, loss and damage claims, and filing claims against a TSP for the collection of overcharges. It is also important to note that this proposed rule would also remove gender pronouns from this FMR part.

II. Executive Orders 12866, 13563, and 14094

Executive Order (E.O.) 12866 (Regulatory Planning and Review) directs agencies to assess all costs and benefits of available regulatory alternatives and, if regulation is necessary, to select regulatory approaches that maximize net benefits (including potential economic, environmental, public health and safety effects, distributive impacts, and equity). E.O. 13563 (Improving Regulation and Regulatory Review) emphasizes the importance of quantifying both costs and benefits, of reducing costs, of harmonizing rules, and of promoting flexibility. E.O. 14094 (Modernizing Regulatory Review) amends section 3(f) of Executive Order 12866 and supplements and reaffirms the principles, structures, and definitions governing contemporary regulatory review established in E.O. 12866 and E.O. 13563. The Office of Management and Budget's Office of Information and Regulatory Affairs (OIRA) has determined that this rulemaking is not a significant regulatory action and, therefore, it is not subject to review under section 6(b) of E.O. 12866.

III. Regulatory Flexibility Act

GSA does not expect this proposed rule to have a significant economic impact on a substantial number of small entities within the meaning of the Regulatory Flexibility Act, 5 U.S.C. 601, et seq. This proposed rule is also exempt from the Administrative Procedure Act pursuant to 5 U.S.C. 553(a)(2) because it applies to agency management or personnel. Therefore, an Initial Regulatory Flexibility Analysis has not been performed.

IV. Paperwork Reduction Act

The Paperwork Reduction Act does not apply because the changes to the FMR do not impose recordkeeping or information collection requirements, or the collection of information from offerors, contractors, or members of the public that requires the approval of the Office of Management and Budget (OMB) under 44 U.S.C. 3501, et seq.

List of Subjects in 41 CFR Part 102-118

Accounting, Claims, Government property management, Reporting and recordkeeping requirements, Transportation.

Krystal J. Brumfield,
Associate Administrator, Office of Government-wide Policy.

Therefore, GSA proposes to amend 41 CFR part 102-118 as set forth below:

PART 102-118—TRANSPORTATION PAYMENT AND AUDIT

1. The authority citation for 41 CFR part 102-118 continues to read as follows:

Authority: 31 U.S.C. 3726; 40 U.S.C. 121(c); 40 U.S.C. 501, et seq.; 46 U.S.C. 55305; 49 U.S.C. 40118.

§ 102-118.25 [Amended]

2. Amend § 102-118.25 by removing the words “may request” and adding the words “is required” in their place.

3. Amend § 102-118.35 by:

a. Adding, in alphabetical order, the definitions “ACH (automated clearinghouse)” and “Agency purchase card”,

b. Revising the definition of “Cash”;

c. Adding, in alphabetical order, the definitions of “Certificate of Settlement” and “Civilian Board of Contract Appeals (CBCA)”;

d. Removing the definition of “EDI signature”;

e. Revising the definition of “Government contractor issued charge card”;

f. Adding, in alphabetical order, the definitions of “Individually billed travel card”, “Notice of Indebtedness”, and “Notice of Overcharge”;

g. Revising the definition of “Offset”;

h. Adding the definition of “Refund”;

i. Removing the definition of “Reparation”;

j. Revising the definition of “Statement of difference”;

k. Removing the definition of “Statement of difference rebuttal”;

l. Adding the definition of “Transportation Audits Management System (TAMS)”; and

m. Removing the definition of “Virtual GBL (VGBL)”.

The additions and revisions read as follows:

§ 102-118.35 What definitions apply to this part?

* * * * *

ACH (automated clearinghouse) means a nationwide network through which depository institutions send each other batches of electronic credit and debit transfers.

* * * * *

Agency purchase card means a charge card used by an authorized agency purchaser to procure, order, and pay for supplies and services.

* * * * *

Cash means cash, personal checks, personal charge/credit cards, and traveler's checks.

Certificate of Settlement means a formal notice to an agency that provides a complete explanation of any amount that is disallowed. GSA produces and transmits the Certificate of Settlement (GSA Form 7931) to the agency whose funds are to be charged for processing and payment.

Civilian Board of Contract Appeals (CBCA) means an independent court within GSA that settles transportation payment claims disputes between Federal agencies and transportation service providers (TSPs). For additional information on the CBCA see https://www.cbca.gov/index.html.

* * * * *

Government contractor issued charge card means an individually billed travel card or an agency purchase card.

* * * * *

Individually billed travel card means the charge card used by authorized individuals to pay for official travel and transportation related expenses for which the contractor bills the employee. This is different from a centrally billed account paying for official travel and transportation related expenses for which the agency is billed.

Notice of Indebtedness means a formal notice issued to a TSP that owes an ordinary debt to an agency. This notice states the basis for the debt, the TSP's rights, interest, penalty, and other results of nonpayment. The debt is due immediately and is subject to interest charges, penalties, and administrative cost under 31 U.S.C. 3717.

Notice of Overcharge means a formal notice to a TSP that owes a debt to the agency. It shows the TSP the amount paid and the basis for the proper charge for the document reference number (DRN), and cites applicable contract, tariff, or tender, along with other data relied on to support the overcharge.

Offset means withholding money from a payment. In this part, money withheld refers to the funds owed a TSP that are not released by the agency but instead used to repay the Government for a debt incurred by the TSP.

* * * * *

Refund means the amount collected from outside sources for payments made in error, overpayment, or adjustments for previous amounts disbursed.

* * * * *

Statement of difference means a statement issued by an agency or its designated audit contractor during a prepayment audit when it has been determined that a TSP has billed the agency for more than the proper amount for the services. This statement tells the TSP the amount allowed and the basis for the proper charges. The statement also cites the applicable rate references and other data relied on for support. The agency issues a separate statement of difference for each transportation transaction. This can be an electronic process.

* * * * *

Transportation Audits Management System (TAMS) means the GSA's cloud-based postpaid transportation invoice auditing solution for Federal agencies and TSPs.

* * * * *

§ 102-118.40 [Amended]

4. Amend § 102-118.40 by:

a. In paragraph (a), removing the words “Government contractor-issued charge card, purchase order (or electronic equivalent), or a Government bill of lading for international shipments (including domestic overseas shipments)” and adding the words “Government contractor issued charge card, purchase order (or electronic equivalent), or a bill of lading including a Government bill of lading” in their place; and

b. In paragraph (b), removing the words “Government issued charge card (or centrally billed travel account citation), Government issued individual travel charge card, personal charge card,” and adding the words “Government contractor issued charge card, centrally billed travel account, personal charge/credit card,” in their place.

§ 102-118.45 [Amended]

5. Amend § 102-118.45 by:

a. In paragraph (a)(1)(i), removing the words “Government issued agency charge card” and adding the words “Government contractor issued charge card” in their place;

b. In paragraph (a)(3)(i), removing the words “Contractor issued individual travel charge card” and adding the words “Government contractor issued charge card (individually billed travel card)” in their place; and

c. In paragraph (a)(3)(ii), removing the words “Personal charge card” and adding the words “Personal charge/credit card” in their place.

§ 102-118.50 [Amended]

6. Amend § 102-118.50 by:

a. In paragraph (a), removing the citation “(31 U.S.C. 3332, et)” and adding the citation “(31 U.S.C. 3332, et seq.)” in its place; and

b. In paragraph (c), removing the citation “(31 CFR part 208)” and adding the citation “31 CFR part 208” in its place.

7. Revise § 102-118.75 to read as follows:

§ 102-118.75 What if my agency or the TSP does not have an account with a financial institution or approved payment agent?

Under 31 U.S.C. 3332, et seq., your agency must obtain an account with a financial institution or approved payment agent in order to meet the statutory requirements to make all Federal payments via EFT unless your agency receives a waiver from the Department of the Treasury. To obtain a waiver, your agency must contact the Secretary of the Treasury. For information visit: https://www.fiscal.treasury.gov/

8. Amend § 102-118.80 by revising the third sentence to read as follows:

§ 102-118.80 Who is responsible for keeping my agency's electronic commerce transportation billing records?

* * * Therefore, your agency must utilize the Transportation Audits Management System (TAMS) (https://tams.gsa.gov) to submit all relevant electronic transportation billing documents or submit via email to: QMCATariffs@gsa.gov.

9. Revise § 102-118.115 to read as follows:

§ 102-118.115 Must my agency use a GBL?

No. Your agency is required to use commercial payment practices to the maximum extent possible. Your agency may use a GBL as needed for domestic shipments and should use a GBL for international shipments. When used for shipments, a GBL is a receipt of goods, evidence of title, and a contract of carriage for Government shipments and was developed to protect the interest of the U.S. Government.

§ 102-118.130 [Amended]

10. Amend § 102-118.130 by removing the last sentence.

§ 102-118.150 [Amended]

11. Amend § 102-118.150 by, in paragraph (a), removing the last sentence.

12. Revise § 102-118.235 to read as follows:

§ 102-118.235 Must my agency keep physical control and accountability of the GBL and GTR forms or GBL and GTR numbers?

Yes, your agency is responsible for the physical control, use, and accountability of GBLs and GTRs and must have procedures in place to track, manage, and account for these documents when necessary.

13. Revise § 102-118.255 to read as follows:

§ 102-118.255 Are GBL and GTR forms numbered and used sequentially?

Yes, GBLs and GTRs must be sequentially numbered by agencies when used.

§ 102-118.260 Must my agency send all quotations, tenders, or contracts with a TSP to GSA?

14. Amend § 102-118.260 by revising paragraph (a) to read as follows:

(a) Yes, your agency must send a copy of each quotation, tender, or contract of special rates, fares, charges, or concessions with TSPs including those authorized by 49 U.S.C. 10721, 13712, and 15504 upon execution to qmcatariffs@gsa.gov.

* * * * *

15. Amend § 102-118.285 by:

a. Revising paragraph (e);

b. Removing paragraph(f); and

c. Redesignating paragraphs (g) through (m) as paragraphs (f) through (l), respectively.

The revisions read as follows:

§ 102-118.285 What must be included in an agency's transportation prepayment audit program?

* * * * *

(e) Agencies must use GSA Transportation Audits Division's electronic commerce system, TAMS, to fulfill all monthly reporting requirements. Filing all documents through TAMS ensures that GSA Transportation Audits Division will properly maintain and store transportation records, including paid transportation bills, in accordance with the General Records Schedule 1.1 et seq., (36 CFR chapter XII, part 1220). GSA will also arrange for storage of any document requiring special handling, such as bankruptcy and court cases. These bills will be retained pursuant to 44 U.S.C. 3309 until claims have been settled.

* * * * *

§ 102-118.300 [Amended]

16. Amend § 102-118.300 by, in paragraph(a), removing the words “by email at Audit.Policy@gsa.gov, or by mail to: U.S. General Services Administration, 1800 F St. NW, 3rd Floor, Mail Hub 3400, Washington, DC 20405.” and adding the words “via TAMS (https://tams.gsa.gov), or by email to Audit.Policy@gsa.gov.” in their place.

17. Amend § 102-118.425 by revising paragraph (a) to read as follows:

§ 102-118.425 Is my agency required to forward all transportation documents (TDs) to GSA Transportation Audits Division, and what information must be on these documents?

(a) Yes, your agency must provide all TDs, via TAMS, to GSA Transportation Audits Division (see § 102-118.35 for the definition of TD).

* * * * *

§ 102-118.430 [Amended]

18. Amend § 102-118.430 by:

a. In paragraph (f), removing the second sentence; and

b. In paragraph (g), removing the second and third sentences.

§ 102-118.435 [Amended]

19. Amend § 102-118.435 by, in paragraph (a)(7), removing the words “freight or passenger” and adding the word “all” in their place.

§ 102-118.440 [Amended]

20. Amend § 102-118.440 by, in the second sentence, removing the word “type” and adding the word “types” in its place.

21. Revise § 102-118.455 to read as follows:

§ 102-118.455 What is the time limit for a TSP to file a transportation claim against my agency?

The time limits on a TSP transportation claim against the Government differ by mode as shown in the following table:

Time Limits on Actions Taken by TSP
Mode | Freight charges (years) | Statute
(a) Air Domestic | 6 | 28 U.S.C. 2401, 2501.
(b) Air International | 6 | 28 U.S.C. 2401, 2501.
(c) Freight Forwarders (Subject to title 49 chapter 135) | 3 | 49 U.S.C. 14705(f).
(d) Motor | 3 | 49 U.S.C. 14705(f).
(e) Rail | 3 | 49 U.S.C. 11705(f).
(f) Water (Subject to title 49 chapter 135) | 3 | 49 U.S.C. 14705(f).
(g) Water (Not subject to title 49 chapter 135) | 2 | 46 U.S.C. 30905.
(h) TSPs not specified in any of the above categories | 6 | 28 U.S.C. 2401, 2501.

22. Revise § 102-118.460 to read as follows:

§ 102-118.460 What is the time limit for my agency to file a court claim with a TSP for freight charges, refund of overpayment, and loss or damage to the property?

Statutory time limits vary depending on the mode and the service involved and may involve freight charges. The following tables list the time limits:

(a) Time Limits on Actions Taken by the Federal Government Against TSPs
Mode | Freight charges | Refund for overpayment | Loss and damage
(1) Rail | 3 years; 49 U.S.C. 11705 | 3 years; 49 U.S.C. 11705 | 6 years; 28 U.S.C. 2415.
(2) Motor | 3 years; 49 U.S.C. 14705(f) | 3 years; 49 U.S.C. 14705(f) | 6 years; 28 U.S.C. 2415.
(3) Freight Forwarders (Subject to title 49 chapter 135) | 3 years; 49 U.S.C. 14705(f) | 3 years; 49 U.S.C. 14705(f) | 6 years; 28 U.S.C. 2415.
(4) Water (Subject to title 49 chapter 135) | 3 years; 49 U.S.C. 14705(f) | 3 years; 49 U.S.C. 14705(f) | 6 years; 28 U.S.C. 2415.
(5) Water (Not subject to title 49 chapter 135) | 6 years; 28 U.S.C. 2415 | 3 years; 46 U.S.C. 41301 | 3 days after delivery; Carriage of Goods By Sea Act, 46 U.S.C. 30701 Notes.
(6) Domestic Air | 6 years; 28 U.S.C. 2415 | 6 years; 28 U.S.C. 2415 | 6 years; 28 U.S.C. 2415.
(7) International Air | 6 years; 28 U.S.C. 2415 | 6 years; 28 U.S.C. 2415 | 2 years; 49 U.S.C. 40105.

(b) Time Limits on Actions Taken by the Federal Government Against TSPs
[TSPs not specified in paragraph (a) of this section]
Mode | Freight | Refund for overpayment | Loss and damage
(1) All | 6 years; 28 U.S.C. 2415 | 6 years; 28 U.S.C. 2415 | 6 years; 28 U.S.C. 2415.

23. Amend § 102-118.470 by revising the section heading and introductory text to read as follows:

§ 102-118.470 Are there statutory time limits for a TSP on filing a claim with the GSA Transportation Audits Division?

Yes, a claim must be received by the GSA Transportation Audits Division or its designee (the agency where the claim arose) within 3 years beginning the day after the latest of the following dates (except in time of war):

* * * * *

24. Revise § 102-118.490 to read as follows:

§ 102-118.490 What if my agency fails to settle a disputed claim with a TSP within 30 days?

(a) If your agency fails to settle a disputed claim with a TSP within 30 days, the TSP may appeal to GSA via TAMS— https://tams.gsa.gov.

(b) If the TSP disagrees with the administrative settlement by the GSA Transportation Audits Division, the TSP may appeal to the Civilian Board of Contract Appeals (CBCA) (See § 102-118.35 for a definition of Civilian Board of Contract Appeals (CBCA)).

25. Amend § 102-118.500 by revising paragraph (a) to read as follows:

§ 102-118.500 How does my agency handle a voluntary refund submitted by a TSP?

(a) An agency must report all voluntary refunds to the GSA Transportation Audits Division (so that no Notice of Overcharge or financial offset occurs), unless other arrangements are made (e.g., charge card refunds, etc.). These reports must be sent via email to: audit.policy@gsa.gov.

* * * * *

§ 102-118.510 [Amended]

26. Amend § 102-118.510 by:

a. In the section heading, remove the words “GSA Form 7931”; and

b. Removing the words “GSA Form 7931” and adding the words “Certificate of Settlement” in their place.

27. Revise § 102-118.540 to read as follows:

§ 102-118.540 Who has the authority to audit, settle accounts, and/or start collection action for all transportation services provided for my agency?

(a) The Administrator of GSA has the authority and responsibility to conduct prepayment or postpayment audits of transportation bills, settle accounts, commence collection actions, and resolve transportation claims which cannot be resolved by the agency procuring the transportation services or the TSP presenting the bill. The number and types of bills audited shall be based on the Administrator's decision (31 U.S.C. 3726). With respect to a contract for transportation services awarded pursuant to the Federal Acquisition Regulation (FAR), such an appeal shall be adjudicated under the authority of this section using administrative procedures of GSA.

(b) The Administrator has delegated this responsibility to the Director of the GSA Transportation Audits Division because the Director has access to governmentwide data including TSP rates, agency paid TSP invoices, and transportation billings with the government. Your agency must correctly pay individual transportation invoices (See 31 U.S.C. 3351(4) Improper Payment definition).

28. Revise § 102-118.545 to read as follows:

§ 102-118.545 What information must a TSP claim include?

All claims filed with GSA Transportation Audits Division either using TAMS (preferred) or via email (protests@gsa.gov) must include:

(a) The transportation document.

(b) An explanation for the claim.

(c) Any additional supporting documentation.

§ 102-118.550 [Amended]

29. Amend § 102-118.550 by, in the section heading, removing the words “an administrative” and adding the word “a” in its place.

§ 102-118.555 [Amended]

30. Amend § 102-118.555 by:

a. In the section heading, removing the word “administrative”; and

b. Removing the word “administrative”.

31. Revise § 102-118.560 to read as follows:

§ 102-118.560 What is the required format that a TSP must use to file a claim?

There is no required format for filing claims. TSPs should file a claim through TAMS or by sending the required information and documentation (see §§ 102-118.545 and 102-118.565) to GSA Transportation Audits Division via email to protests@gsa.gov.

§ 102-118.565 [Amended]

32. Amend § 102-118.565 by:

a. In the section heading, removing the words “an administrative” and adding the word “a” in their place; and

b. Removing the words “An administrative” and adding the word “A” in their place.

33. Revise § 102-118.600 to read as follows:

§ 102-118.600 When a TSP disagrees with a Notice of Overcharge resulting from a postpayment audit, what are the appeal procedures?

A TSP that disagrees with the Notice of Overcharge may submit a protest to the GSA Transportation Audits Division via TAMS (https://tams.gsa.gov) or email to protests@gsa.gov.

34. Revise § 102-118.610 to read as follows:

§ 102-118.610 Is a TSP notified when GSA allows a claim?

Yes, the GSA Transportation Audits Division will acknowledge each payable claim using a Certificate of Settlement.

35. Revise § 102-118.615 to read as follows:

§ 102-118.615 Will GSA notify a TSP if they internally offset a payment?

Yes, the GSA Transportation Audits Division will notify the TSP via TAMS or email if GSA offsets a payment.

36. Amend § 102-118.630 by:

a. Revising paragraphs (a) and (b); and

b. Removing Note 1.

The revisions read as follows:

§ 102-118.630 How must a TSP refund amounts due to GSA?

(a) TSPs must promptly refund amounts due to GSA, preferably via TAMS or by ACH. If an ACH is not used, checks must be made payable to “General Services Administration”, including the document reference number, TSP name, bill number(s), taxpayer identification number and standard carrier alpha code, then mailed to the appropriate address listed on the Accounts and Collections web page at https://www.gsa.gov/transaudits.

(b) If an ACH address is needed, visit https://www.gsa.gov/transaudits (Accounts and Collections web page) or contact the GSA Transportation Audits Division via email at: audits.collections@gsa.gov.

37. Revise § 102-118.645 to read as follows:

§ 102-118.645 Can a TSP file a claim on collection actions?

Yes, a TSP may file a claim involving collection actions resulting from the transportation audit performed by the GSA directly with the GSA Transportation Audits Division. Any claims submitted to GSA will be subject to the Prompt Payment Act (31 U.S.C. 3901, et seq.). The TSP must file all other transportation claims with the agency out of whose activities they arose. If this is not feasible (e.g., where the responsible agency cannot be determined or is no longer in existence) claims may be sent to the GSA Transportation Audits Division for forwarding to the responsible agency or for direct settlement by the GSA Transportation Audits Division. Submit claims using Transportation Audits Management System (TAMS) at https://tams.gsa.gov or via email to protests@gsa.gov.

[FR Doc. 2024-02791 Filed 2-15-24; 8:45 am]

BILLING CODE 6820-14-P